DEPARTMENT OF THE INTERIOR

Bureau of Land Management

[CO-600-00-1010-PG-241]

Northwest Colorado Resource Advisory Council Meeting

AGENCY: Bureau of Land Management, Interior.

ACTION: Notice of meeting.

SUMMARY: The next meeting of the Northwest Colorado Resource Advisory Council will be held on Wednesday September 20, 2000, at the Raftopoulos Ranch Headquarters located near Maybell, Colorado.

DATES: Wednesday September 20, 2000.

ADDRESSES: For further information, contact Lynn Barclay, Bureau of Land Management (BLM), 455 Emerson Street, Craig, Colorado 81625; Telephone (970) 826-5096.

SUPPLEMENTARY INFORMATION: The Northwest Resource Advisory Council (RAC) will meet on Wednesday September 20, 2000 at the Raftopoulos Ranch, 2984 County Road 94, Maybell, Colorado. The meeting will start at 8 a.m., and include discussions of Off-Highway Vehicles, RAC involvement with the USFS , and existing and future RAC subcommittees. BLM representatives will also provide the group information on the Pollock Bench Mountain Bike Trail, Fire Control and Management, and the Vermillion Cliffs Wilderness Inventory. In the afternoon, there will be a field trip to area public lands.

The meeting is open to the public. Interested persons may make oral statements at the meetings or submit written statements at the meeting. Per-person time limits for oral statements may be set to allow all interested persons an opportunity to speak.

Summary minutes of council meetings are maintained at the Bureau of Land Management Offices in Grand Junction and Craig, Colorado. They are available for public inspection and reproduction during regular business hours within thirty (30) days following the meeting.

Dated: August 4, 2000.
Richard Arcand,
Acting Center Manager, Northwest Center.

[FR Doc. 00-20239 Filed 8-9-00; 8:45 am]

BILLING CODE 4310-70-P